DEPARTMENT OF ENERGY

Notice of 229 Boundary Revision for the Argonne National Laboratory (ANL)

AGENCY: Office of Science, Department of Energy.

ACTION: Notice of 229 boundary revision for the Argonne National Laboratory.

SUMMARY: Notice is hereby given that the Department of Energy (DOE), pursuant to the Atomic Energy Act of 1954, as amended, as implemented by DOE's regulations regarding Trespassing on DOE property which published in the Federal Register on October 31, 1969, prohibits the unauthorized entry, and the unauthorized introduction of weapons or dangerous materials, into or upon the following described facility of the ANL of the DOE.

DATES: This action is effective on December 28, 2021.

FOR FURTHER INFORMATION CONTACT: Mr. James Durant, III, Office of Chief Counsel, Office of Science, Chicago Office, 9800 South Cass Ave., Lemont, Illinois 60439, (630) 252-2034, james.durant@science.doe.gov.

SUPPLEMENTARY INFORMATION: This security boundary is designated pursuant to Section 229 of the Atomic Energy Act of 1954. This revised boundary supersedes and/or re-describes the entry previously contained in the Federal Register notice published on October 31, 1969, 34 FR 17671 for the ANL of the Department of Energy.

The following amendments are made:

Argonne National Laboratory is a science and engineering research national laboratory managed by UChicago Argonne, LLC for the United States DOE's Office of Science. ANL is located in the County of DuPage, Town of Lemont, State of Illinois, and is located approximately 25 miles south of the City of Chicago. The ANL 229 Security Boundary is bounded by: North, Interstate 55; South, Bluff Road; East, Cass Ave. and West, Lemont Ave. (Latitude: 41°42′33.00″ N and Longitude: −87°58′55.17″ W).

The previous ANL 229 Security Boundary conveyed 1,991.731 acres, more or less. This revised ANL 229 Security Boundary retained 1,517.586 acres, more or less and is further described as: That part of Sections Three (3), Four (4), Five (5), Eight (8), Nine (9), Ten (10), Eleven (11), Fifteen (15), Sixteen (16), and Seventeen (17), Township 37 North, Range 11 East of the Third Principal Meridian, DuPage County, Illinois. The ANL 229 Security Boundary for these areas is indicated by fencing and/or cable and post configuration.

Signing Authority

This document of the Department of Energy was signed on December 3, 2021, by Dr. Joanna M. Livengood, Manager, Argonne Site Office, Office of Science, pursuant to delegated authority from the Secretary of Energy. The document with the original signature and date is maintained by the DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 22, 2021
Treena V. Garrett,
Federal Register Liaison Officer, U.S. Department of Energy.

[FR Doc. 2021-28147 Filed 12-27-21; 8:45 am]

BILLING CODE 6450-01-P